DEPARTMENT OF AGRICULTURE

U.S. Codex Office

Codex Alimentarius Commission: Meeting of the Codex Committee on Food Import and Export Inspection and Certification Systems

AGENCY: U.S. Codex Office, USDA.

ACTION: Notice of public meeting and request for comments.

SUMMARY: The U.S Codex Office is sponsoring a public meeting on March 25, 2020. The objective of the public meeting is to provide information and receive public comments on agenda items and draft United States (U.S.) positions to be discussed at the 25th Session of the Codex Committee on Food Import and Export Inspection and Certification Systems (CCFICS) of the Codex Alimentarius Commission, in Hobart, Tasmania, Australia, April 27-May 1, 2020. The U.S. Manager for Codex Alimentarius and the Under Secretary, Office of Trade and Foreign Agricultural Affairs, recognize the importance of providing interested parties the opportunity to obtain background information on the 25th Session of the CCFICS and to address items on the agenda.

DATES: The public meeting is scheduled for March 25, 2020, from 1:00 p.m. to 4:00 p.m. EST.

ADDRESSES: The public meeting will take place in the United States Department of Agriculture (USDA), South Building, Room 104-A, 1400 Independence Avenue SW, Washington, DC 20250. Documents related to the 25th Session of the CCFICS will be accessible via the internet at the following address: http://www.fao.org/fao-who-codexalimentarius/meetings/detail/en/?meeting=CCFICS&session=25. Mary Stanley, U.S. Delegate to the 25th Session of the CCFICS, invites U.S. interested parties to submit their comments electronically to the following email address: mary.stanley@usda.gov.

Call in number: If you wish to participate in the public meeting for the 25th Session of the CCFICS by conference call, please register by March 18, 2020 by emailing kristen.hendricks@usda.gov.

Registration: Attendees can register to attend the public meeting in person by emailing kristen.hendricks@usda.gov by March 18, 2020. Early registration is encouraged because it will expedite entry into the building. The meeting will take place in a Federal building. Attendees should bring photo identification and plan for adequate time to pass through the security screening systems. Attendees who are not able to attend the meeting in person, but who wish to participate, may do so by phone, as discussed above.

FOR FURTHER INFORMATION CONTACT: For further information about the public meeting please contact Kristen Hendricks, U.S. Codex Office, 1400 Independence Avenue SW, Room 4865, South Building, Washington, DC 20250. Phone: (202) 720-2137, Fax: (202) 720-3157, Email: Kristen.Hendricks@usda.gov.

For specific questions about the 25th session of CCFICS, contact Mary Stanley, Senior Advisor, Office of International Coordination, Food Safety and Inspection Service, U.S. Department of Agriculture, 1400 Independence Avenue SW, Room 3151, South Agriculture Building, Washington, DC 20250, Phone: (202) 720-0287, Fax: (202) 690-3856, Email: Mary.Stanley@usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade. The CCFICS is responsible for:

(a) Developing principles and guidelines for food import and export inspection and certification systems, with a view to harmonizing methods and procedures that protect the health of consumers, ensure fair trading practices, and facilitate international trade in foodstuffs;

(b) Developing principles and guidelines for the application of measures by the competent authorities of exporting and importing countries to provide assurance, where necessary, that foodstuffs comply with requirements, especially statutory health requirements;

(c) Developing guidelines for the utilization, as and when appropriate, of quality assurance systems to ensure that foodstuffs conform with requirements and to promote the recognition of these systems in facilitating trade in food products under bilateral/multilateral arrangements by countries;

(d) Developing guidelines and criteria with respect to format, declarations and language of such official certificates as countries may require with a view towards international harmonization;

(e) Making recommendations for information exchange in relation to food import/export control;

(f) Consulting as necessary with other international groups working on matters related to food inspection and certification systems; and

(g) Considering other matters assigned to it by the Commission in relation to food inspection and certification systems.

The CCFICS is hosted by Australia, and the meeting is attended by the United States as a member country of the Codex Alimentarius.

Issues To Be Discussed at the Public Meeting

The following items on the Agenda for the 25th Session of the CCFICS will be discussed during the public meeting:

• Adoption of the Agenda

• Matters arising from the Codex Alimentarius Commission and its subsidiary bodies

• Information on activities of FAO and WHO and other International Organizations relevant to the work of CCFICS

• Draft Principles and guidelines for the assessment and use of voluntary Third Party Assurance (vTPA) programmes

• Proposed draft Guidance on paperless use of electronic certificates (revision of the Guidelines for Design, Production, Issuance and Use of Generic Official Certificates—CXG 38-2001)

• Proposed draft guidelines on recognition and maintenance of equivalence of National Food Control Systems (NFCS)

• Proposed draft consolidated Codex Guidelines related to equivalence

• Discussion paper on role of CCFICS with respect to tackling food fraud in the context of food safety and fair practices in food trade

• Review and update of Appendix A—the list of emerging global emerging issues

• Other Business

• Date and Place of Next Session

• Adoption of the Report

Each issue listed will be fully described in documents distributed, or to be distributed by the Codex Secretariat before the Committee meeting. Members of the public may access or request copies of these documents from the U.S. Codex Office or on the internet (see ADDRESSES).

Public Meeting

At the March 25, 2020 public meeting, the draft U.S. positions on the agenda items will be described and discussed, and attendees will have the opportunity to pose questions and offer comments. Written comments may be offered at the meeting or sent to Mary Stanley. Written comments should state that they relate to activities of the 25th Session of the CCFICS.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC.
Mary Lowe,
U.S. Manager for Codex Alimentarius.

[FR Doc. 2020-04483 Filed 3-4-20; 8:45 am]

BILLING CODE P